DEPARTMENT OF DEFENSE

Defense Acquisition Regulations System

Information Collection Requirement; Defense Federal Acquisition Regulation Supplement; Service Contracting (OMB Control Number 0704-0231)

AGENCY: Defense Acquisition Regulations System, Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through September 30, 2007. This proposal also includes 5 burden hours related to audit services, presently approved under OMB Control Number 0704-0187 for use through February 28, 2009. DoD proposes that OMB extend its approval for these collections for 3 additional years.

DATES: DoD will consider all comments received by June 25, 2007.

ADDRESSES: You may submit comments, identified by OMB Control Number 0704-0231, using any of the following methods:

• Federal eRulemaking Portal: http://www.regulations.gov. Follow the instructions for submitting comments.

• E-mail: dfars@osd.mil. Include OMB Control Number 0704-0231 in the subject line of the message.

• Fax: (703) 602-0350.

• Mail: Defense Acquisition Regulations System, Attn: Ms. Amy Williams, OUSD(AT&L)DPAP(DARS), IMD 3C132, 3062 Defense Pentagon, Washington, DC 20301-3062.

• Hand Delivery/Courier: Defense Acquisition Regulations System, Crystal Square 4, Suite 200A, 241 18th Street, Arlington, VA 22202-3402.

Comments received generally will be posted without change to http://www.regulations.gov, including any personal information provided.

FOR FURTHER INFORMATION CONTACT: Ms. Amy Williams, (703) 602-0328. The information collection requirements addressed in this notice are available on the World Wide Web at: http://www.acq.osd.mil/dpap/dars/dfars/index.htm. Paper copies are available from Ms. Amy Williams, OUSD(AT&L)DPAP(DARS), IMD 3C132, 3062 Defense Pentagon, Washington, DC 20301-3062.

SUPPLEMENTARY INFORMATION: Title, Associated Form, and OMB Number: Defense Federal Acquisition Regulation Supplement (DFARS) Part 237, Service Contracting, and the associated clauses at DFARS 252.237; DD Form 2063, Record of Preparation and Disposition of Remains; OMB Control Number 0704-0231.

Needs and Uses: This requirement provides for the collection of necessary information from contractors regarding the results of the embalming process under contracts for mortuary services. The information is used to ensure proper preparation of the body for shipment and burial. In addition, this requirement provides for the collection of information to enable a contracting officer to verify that the apparently successful offeror, in response to a solicitation for audit services, has the appropriate license for operation of its professional practice.

Affected Public: Businesses or other for-profit and not-for-profit institutions.

Annual Burden Hours: 405.

Number of Respondents: 810.

Responses Per Respondent: 1.

Annual Responses: 810.

Average Burden Per Response: .5 hour.

Frequency: On occasion.

Summary of Information Collection

The provision at DFARS 252.237-7000, Notice of Special Standards of Responsibility, requires the apparently successful offeror, in response to a solicitation for audit services, to provide the contracting officer with evidence that it is licensed by the cognizant licensing authority in the State or other political jurisdiction where the offeror operates its professional practice.

The clause at DFARS 252.237-7011, Preparation History, requires the contractor to submit information that briefly describes the results of the embalming process for each body prepared for burial under a DoD contract. DD Form 2063 is used for this purpose.

Michele P. Peterson,
Editor, Defense Acquisition Regulations System.

[FR Doc. E7-7903 Filed 4-25-07; 8:45 am]

BILLING CODE 5001-08-P